DEPARTMENT OF COMMERCE

International Trade Administration

[C-533-849]

Commodity Matchbooks From India: Postponement of Preliminary Determination in the Countervailing Duty Investigation

AGENCY: Import Administration, International Trade Administration, Department of Commerce.

DATES: Effective Date: January 7, 2009.

FOR FURTHER INFORMATION CONTACT: Sean Carey or Dana Mermelstein, AD/CVD Operations, Office 6, Import Administration, International Trade Administration, U.S. Department of Commerce, 14th Street and Constitution Avenue, NW., Washington, DC 20230; telephone: (202) 482-1391 and (202) 482-3964, respectively.

SUPPLEMENTARY INFORMATION:

Background

On November 18, 2008, the Department of Commerce (the Department) initiated a countervailing duty investigation on commodity matchbooks from India. See Commodity Matchbooks From India: Initiation of Countervailing Duty Investigation, 73 FR 70968 (November 24, 2008). The preliminary determination is currently due no later than January 22, 2009. On December 22, 2008, D.D. Bean & Sons Co. (Petitioner), requested that the Department postpone the preliminary determination in the countervailing duty investigation on commodity matchbooks from India.

Postponement of Due Date for Preliminary Determination

Under section 703(c)(1)(A) of the Tariff Act of 1930, as amended (the Act) and 19 CFR 351.205(e), the Department may extend the deadline for reaching a preliminary determination in a countervailing duty investigation until no later than the 130th day after the date on which the administering authority initiates an investigation, if the petitioner makes a timely request for an extension of the period within which the determination must be made under section 703(b) of the Act. Pursuant to 19 CFR 351.205(e), Petitioner's request for postponement of the preliminary determination was timely made 25 days or more before the scheduled date of the preliminary determination. Because the Department finds no compelling reason to deny Petitioner's request, we are postponing the due date for the preliminary determination to no later than March 30, 2009.¹

¹ Because the 130th day after the date of initiation is Saturday, March 28, 2009, we will issue the preliminary determination no later than the next business day (i.e., Monday, March 30, 2009).

This determination is issued and published pursuant to sections 703(c)(2) of the Act and 19 CFR 351.205(f).

Dated: December 30, 2008.
David M. Spooner,
Assistant Secretary for Import Administration.

[FR Doc. E8-31466 Filed 1-6-09; 8:45 am]

BILLING CODE 3510-DS-P